GENERAL SERVICES ADMINISTRATION

Travel and Transportation Policy; Request for Comments on Eliminating the Use of Standard Form (SF) 1169, U.S. Government Transportation Request (GTR)

AGENCY: Office of Governmentwide Policy, General Services Administration.

ACTION: Notice.

SUMMARY: The General Services Administration (GSA) is proposing to eliminate usage of SF 1169, U.S. Government Transportation Request (GTR). Federal transition to an alternative payment mechanism to involve use of the Government issued travel charge card and centrally billed accounts does, in part, support GTR elimination. An initial review by GSA, however, indicates that elimination of the GTR in its entirety may not be possible.

DATES: Send your written comments by April 23, 2001.

ADDRESSES: Send your written comments to Ms. Jane Groat, Office of Governmentwide Policy (MTT), General Services Administration, 1800 F Street, NW., Room G-219, Washington, DC 20405. Send e-mail comments to: jane.groat@gsa.gov.

FOR FURTHER INFORMATION CONTACT: Jane Groat, Program Analyst, Travel Management Division, Office of Governmentwide Policy, General Services Administration, at 202-501-4318, or Internet e-mail at jane.groat@gsa.gov.

SUPPLEMENTARY INFORMATION:

A. Background

GSA published GSA Bulletin FPMR G-202 dated June 22, 1999, Eliminating the Use of Standard Form (SF) 1169, U.S. Government Transportation Request (GTR), in the Federal Register on July 2, 1999 (64 FR 36018). The bulletin gave notification of the proposed elimination of SF 1169 with final GSA action anticipated early in the calendar year 2001. GSA also cancelled, effective December 5, 2000, the constructions of the SF 1169 because low user demand (65 FR 75938, December 5, 2000). The 2-part set and 4-part set book are cancelled; only the 4-part single set version of the form is currently available.

Collectively, Federal agencies have supported the concept of GTR elimination; however, there may be some exceptions requiring its continued use in limited cases. GSA is asking Federal agencies to identify any circumstances that would require continued use of SF 1169. GSA is also exploring whether or not the standard form should be converted to an optional form.

B. Request for Comments

GSA is seeking additional information. Transportation service providers and other interested parties are urged to participate by returning comments. Federal agencies are asked to, at a minimum, identify the exceptions for essential use of SF 1169. Official address, contact, and due date are stated above.

Dated: January 25, 2001.
William T. Rivers,
Director, Travel Management Division.

[FR Doc. 01-7095 Filed 3-21-01; 8:45 am]

BILLING CODE 6820-34-M